DEPARTMENT OF TRANSPORTATION

Federal Aviation Administration

14 CFR Part 71

[Docket No. FAA-2016-9499; Airspace Docket No. 16-ASO-19]

Proposed Amendment of Class D and Class E Airspace; Fort Knox, KY, and Louisville, KY

AGENCY: Federal Aviation Administration (FAA), DOT.

ACTION: Notice of proposed rulemaking (NPRM).

SUMMARY: This action proposes to amend Class E airspace designated as an extension to Class D airspace by removing the Notice to Airmen (NOTAM) part-time status at Godman Army Airfield (AAF) Fort Knox, KY; and Bowman Field Airport, Louisville, KY. This action would also update the geographic coordinates of these airports in the associated Class D and E airspace descriptions. Controlled airspace is necessary for the safety and management of instrument flight rules (IFR) operations at these airports.

DATES: Comments must be received on or before July 10, 2017.

ADDRESSES: Send comments on this proposal to: U.S. Department of Transportation, Docket Operations, 1200 New Jersey Avenue SE., West Bldg. Ground Floor, Rm. W12-140, Washington, DC 20590; Telephone: 1-800-647-5527, or 202-366-9826. You must identify the Docket No. FAA-2016-9499; Airspace Docket No. 16-ASO-19, at the beginning of your comments. You may also submit and review received comments through the Internet at http://www.regulations.gov. You may review the public docket containing the proposal, any comments received, and any final disposition in person in the Dockets Office between 9:00 a.m. and 5:00 p.m., Monday through Friday, except Federal holidays.

FAA Order 7400.11A, Airspace Designations and Reporting Points, and subsequent amendments can be viewed on line at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.11A at NARA, call 202-741-6030, or go to http://www.archives.gov/federal_register/code_of_federal-regulations/ibr_locations.html.

FAA Order 7400.11, Airspace Designations and Reporting Points, is published yearly and effective on September 15.

FOR FURTHER INFORMATION CONTACT: John Fornito, Operations Support Group, Eastern Service Center, Federal Aviation Administration, P.O. Box 20636, Atlanta, Georgia 30320; telephone 404 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would remove NOTAM part-time information from Class E airspace designated as an extension to Class D airspace at Godman Army Airfield, Fort Knox, KY, and Bowman Field Airport, Louisville, KY.

Comments Invited

Interested persons are invited to comment on this rule by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers and be submitted in triplicate to the address listed above. You may also submit comments through the Internet at http://www.regulations.gov.

Persons wishing the FAA to acknowledge receipt of their comments on this action must submit with those comments a self-addressed stamped postcard on which the following statement is made: “Comments to Docket No. FAA-2016-9499; Airspace Docket No. 16-ASO-19.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded from and comments submitted through http://www.regulations.gov. Recently published rulemaking documents can also be accessed through the FAA's Web page at http://www.faa.gov/air_traffic/publications/airspace_amendments/.

You may review the public docket containing the proposal, any comments received, and any final disposition in person in the Dockets Office (see the ADDRESSES section for address and phone number) between 9:00 a.m. and 5:00 p.m., Monday through Friday, except Federal Holidays. An informal docket may also be examined between 8:00 a.m. and 4:30 p.m., Monday through Friday, except Federal Holidays at the office of the Eastern Service Center, Federal Aviation Administration, Room 350, 1701 Columbia Avenue, College Park, Georgia 30337.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is considering an amendment to Title 14, Code of Federal Regulations (14 CFR) Part 71 by removing the NOTAM part-time status of the Class E airspace designated as an extension to a Class D surface area at Godman Army Airfield (AAF) Fort Knox, KY; and Bowman Field Airport, Louisville, KY. Also, this action would amend Class D airspace, Class E surface airspace, and Class E airspace areas extending upward from 700 feet or more above the surface would be adjusted by updating the geographic coordinates of these airports to be in concert with the FAA's aeronautical database.

Class D and Class E airspace designations are published in Paragraphs 5000, 6002, 6004 and 6005, respectively, of FAA Order 7400.11A, dated August 3, 2016, and effective September 15, 2016, which is incorporated by reference in 14 CFR 71.1. The Class D and Class E airspace designations listed in this document will be published subsequently in the Order.

Regulatory Notices and Analyses

The FAA has determined that this proposed regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal would be subject to an environmental analysis in accordance with FAA Order 1050.1F, “Environmental Impacts: Policies and Procedures” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, effective September 15, 2016, is amended as follows:

Paragraph 5000 Class D Airspace.

* * * * *

ASO KY D Fort Knox, KY [Amended]

Godman AAF, KY

(Lat. 37°54′26″ N., long. 85°58′18″ W.)

That airspace extending upward from the surface to and including 3,300 feet MSL within a 3.9-mile radius of Godman AAF. This Class D airspace area is effective during the specific days and times established in advance by a Notice to Airmen. The effective days and times will thereafter be continuously published in the Chart Supplement (previously called Airport/Facility Directory).

ASO KY D Louisville Bowman Field, KY [Amended]

Bowman Field Airport, KY

(Lat. 38°13′41″ N., long. 85°39′49″ W.)

That airspace extending upward from the surface to but not including 2,200 feet MSL within a 3.9-mile radius of Bowman Field Airport. This Class D airspace area is effective during the specific dates and times established in advance by a Notice to Airmen. The effective date and time will thereafter be continuously published in the Chart Supplement (previously called Airport/Facility Directory).

Paragraph 6002 Class E Surface Area Airspace.

* * * * *

ASO KY E2 Fort Knox, KY [Amended]

Godman AAF, KY

(Lat. 37°54′26″ N., long. 85°58′18″ W.)

Within a 3.9-mile radius of Godman AAF. This Class E airspace area is effective during the specific dates and times established in advance by a Notice to Airmen. The effective date and time will thereafter be continuously published in the Chart Supplement (previously called Airport/Facility Directory).

* * * * *

ASO KY E2 Louisville Bowman Field, KY [Amended]

Louisville Bowman Field, KY

(Lat. 38°13′41″ N., long. 85°39′49″ W.)

Within a 3.9-mile radius of Bowman Field Airport. This Class E airspace area is effective during the specific dates and times established in advance by a Notice to Airmen. The effective date and time will thereafter be continuously published in the Chart Supplement (previously called Airport/Facility Directory).

Paragraph 6004 Class E Airspace Designated as an Extension to a Class D Surface Area.

* * * * *

ASO KY E4 Fort Knox, KY [Amended]

Godman AAF, KY

(Lat. 37°54′26″ N., long. 85°58′18″ W.)

Godman NDB

(Lat. 37°57′31″ N., long. 85°58′36″ W.)

That airspace extending upward from the surface within 2.4 miles each side of the 354° bearing from Godman NDB, extending from the 3.9-mile radius of Godman AAF to 7 miles north of the NDB.

ASO KY E4 Louisville Bowman Field, KY [Amended]

Louisville Bowman Field, KY

(Lat. 38°13′41″ N., long. 85°39′48″ W.)

Bowman VOR/DME

(Lat. 38°13′49″ N., long. 85°39′53″ W.)

That airspace extending upward from the surface within 2.4 miles each side of the Bowman VOR/DME 067° radial, extending from the 3.9-mile radius of Bowman Field to 7 miles east of the Bowman VOR/DME.

Paragraph 6005 Class E Airspace Areas Extending Upward from 700 feet or More Above the Surface of the Earth.

* * * * *

ASO KY E5 Fort Knox, KY [Amended]

Fort Knox, Godman AAF, KY

(Lat. 37°54′24′ N., long. 85°58′23″ W.)

Godman NDB

(Lat. 37°57′31″ N., long. 85°58′36″ W.)

That airspace extending upward from 700 feet above the surface within a 6.3-mile radius of Godman AAF and within 2.4 miles each side of the 354° bearing from Godman NDB, extending from the 6.3-mile radius to 7 miles north of the NDB.

ASO KY E5 Louisville, KY [Amended]

Louisville, Standiford Field Airport, KY

(Lat. 38°10′29″ N., long. 85°44′11″ W.)

Bowman Field Airport, KY

(Lat. 38°13′41″ N., long. 85°39′49″ W.)

That airspace extending upward from 700 feet above the surface within a 10-mile radius of Standiford Field and within 2.4 miles each side of the ILS localizer east course, extending from the 10-mile radius to 7 miles east of the LOM and within a 10-mile radius of Bowman Field Airport.

Issued in College Park, Georgia, on May 11, 2017.
Ryan W. Almasy,
Manager, Operations Support Group, Eastern Service Center, Air Traffic Organization.

[FR Doc. 2017-10427 Filed 5-25-17; 8:45 am]

BILLING CODE 4910-13-P